DEPARTMENT OF ENERGY

Federal Energy Regulatory Commission

[Docket No. RP03-189-000]

Great Lakes Gas Transmission Limited Partnership; Notice of Tariff Filing

December 11, 2002.

Take notice that on December 6, 2002, Great Lakes Gas Transmission Limited Partnership (Great Lakes) tendered for filing as part of its FERC Gas Tariff, Second Revised Volume No. 1, the following tariff sheets, proposed to be effective February 1, 2003:

Twelfth Revised Sheet No. 1

Fifth Revised Sheet No. 8A

Eleventh Revised Sheet No. 9

Sixth Revised Sheet No. 40A

Ninth Revised Sheet No. 41

Seventh Revised Sheet No. 42A

Second Revised Sheet No. 50K

Third Revised Sheet No. 51

First Revised Sheet No. 57B

Third Revised Sheet No. 87

First Revised Sheet No. 87A

Third Revised Sheet No. 88

Second Revised Sheet No. 89

Great Lakes states that the proposed revised tariff sheets are being filed to expand the scope of Great Lakes' Master Service Agreement and Award Acknowledgment. Currently the Master Service Agreement is used only to facilitate multiple temporary capacity release transactions. Great Lakes proposes here to expand use of the Master Service Agreement and Award Acknowledgment also to facilitate multiple firm and/or limited firm transportation transactions. This change is being made to provide Great Lakes' shippers with greater ease in obtaining and finalizing contracts for service. In addition, the proposed changes will reduce the processing time for the increasing number of multiple firm or limited firm transportation transactions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31735 Filed 12-17-02; 8:45 am]

BILLING CODE 6717-01-P